DEPARTMENT OF HOMELAND SECURITY

U.S. Citizenship and Immigration Services

[CIS No. 2551-14, 2552-14, 2553-14; DHS Docket No. USCIS-2014-0010, USCIS-20014-0011, USCIS-2014-0009]

RIN 1615-ZB32, 1615-ZB33, 1615-ZB34

Extension of the Initial Registration Period for Guinea, Liberia, and Sierra Leone Temporary Protected Status

AGENCY: U.S. Citizenship and Immigration Services, Department of Homeland Security.

ACTION: Notice; extension of registration period.

SUMMARY: On November 21, 2014, the Secretary of Homeland Security (Secretary) published three notices in the Federal Register designating Guinea, Liberia, and Sierra Leone for Temporary Protected Status (TPS), each for a period of 18 months. The designations took effect on November 21, 2014 and are valid through May 21, 2016. The Department of Homeland Security (DHS) established a 180-day registration period from November 21, 2014 through May 20, 2015.

Through this Notice, the Secretary is extending the initial registration period for each of the designations to provide an additional 90 days for individuals who may be eligible for TPS under the Guinea, Liberia, or Sierra Leone designation to prepare and submit their applications. The initial registration period for all three countries has been extended from May 21, 2015 through August 18, 2015. Complete applications must be received with the appropriate fee or with a fee waiver request by August 18, 2015. The extension of the initial registration period does not extend the period of the TPS designation. To be eligible for TPS under the Guinea, Liberia, or Sierra Leone designations, applicants must demonstrate that they have been continuously physically present in the United States since November 21, 2014, and have continuously resided in the United States since November 20, 2014.

DATES: On November 21, 2014, DHS published notices in the Federal Register designating Guinea, Liberia, and Sierra Leone for TPS for a period of 18 months effective from November 21, 2014 through May 21, 2016. The original initial registration period, that was to expire on May 20, 2015, will be extended with a new filing deadline of August 18, 2015, for all three countries.

Eligible applicants have until August 18, 2015, to submit an initial application. Additionally, an individual who previously submitted an application for TPS under the Guinea, Liberia, or Sierra Leone designations and to whom USCIS previously returned the application based on the prior May 20, 2015 filing deadline may now resubmit his or her complete application by August 18, 2015.

FOR FURTHER INFORMATION CONTACT:

• For further information on TPS, including guidance on the application process and additional information on eligibility, please visit the USCIS TPS Web page at http://www.uscis.gov/tps. You can find specific information about the designations of Guinea, Liberia, and Sierra Leone for TPS and the extension of the registration period by selecting the appropriate country from the menu on the left of the TPS Web page.

• You can also contact the TPS Operations Program Manager at the Waivers and Temporary Services Branch, Service Center Operations Directorate, U.S. Citizenship and Immigration Services, Department of Homeland Security, Mail Stop 2060, Washington, DC 20529-2060; or by phone at (202) 272-1533 (this is not a toll-free number). Note: The phone number provided here is solely for questions regarding this TPS notice. It is not for individual case status updates.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

When did the Secretary designate Guinea, Liberia, and Sierra Leone for TPS?

On November 21, 2014, DHS published three notices in the Federal Register designating Guinea, Liberia, and Sierra Leone for TPS, each for a period of 18 months by notice effective November 21, 2014 through May 21, 2016. See 79 FR 69502 (Liberia), 79 FR 69506 (Sierra Leone), and 79 FR 69511 (Guinea).

What authority does the Secretary have to extend the registration period?

Section 244(c)(1)(A)(iv) of the Immigration and Nationality Act, authorizes the Secretary to provide TPS applicants with a registration period of not less than 180 days and requires individuals to register to the extent and in a manner which the Secretary establishes. See also 8 CFR 244.2(f), 244.7(b). The initial registration period for Guinea, Liberia, and Sierra Leone under their respective TPS designations originally lasted for 180 days, from November 21, 2014 through May 20, 2015. Through this Notice, the Secretary has extended the registration period for an additional 90 days, until August 18, 2015.

Why is the Secretary extending the registration period for Guinea, Liberia, and Sierra Leone TPS?

The Secretary is extending the registration period to provide additional time for individuals who may be eligible for TPS under the Guinea, Liberia, or Sierra Leone designations to prepare and submit their applications.

Jeh Charles Johnson,
Secretary.

[FR Doc. 2015-15762 Filed 6-24-15; 8:45 am]

BILLING CODE 9111-97-P